DEPARTMENT OF DEFENSE

Department of the Navy

Notice of Intent to Grant Exclusive Patent License; American BioHealth Group, LLC

AGENCY: Department of the Navy, DOD.

ACTION: Notice.

SUMMARY: The Department of the Navy hereby gives notice of its intent to grant to American BioHealth Group, LLC, a revocable, nonassignable, exclusive license to practice worldwide the Government-Owned inventions described in U.S. Patent No. 6,649,621, issued 18 November 2003 entitled, “Prevention or Reversal of Sensorineural Hearing Loss (SNHL) Through Biological Mechanisms” in the field of prevention and treatment of noise-induced sensorineural inner ear damage by administering either a nutraceutical or a pharmaceutically effective amount of antioxidant compounds through various methods to include, but not limited to, tablets, capsules, topical delivery vehicles and sterile IV administered products.

DATES: Anyone wishing to object to the granting of this license has fifteen (15) days from the date of this notice to file written objections along with supporting evidence, if any.

ADDRESSES: Submit written objections to the Office of Technology Transfer, Naval Medical Research Center, 503 Robert Grant Ave, Silver Spring, MD 20910-7500.

FOR FURTHER INFORMATION CONTACT: Dr. Charles Schlagel, Director, Office of Technology Transfer, Naval Medical Research Center, 503 Robert Grant Ave, Silver Spring, MD 20910-7500, telephone (301) 319-7428 or e-mail at: schlagelc@nmrc.navy.mil.

Dated: July 8, 2004.
J. H. Wagshul,
Commander, Judge Advocate General's Corps, U.S. Navy, Federal Register Liaison Officer.

[FR Doc. 04-16269 Filed 7-16-04; 8:45 am]

BILLING CODE 3810-FF-P